DEPARTMENT OF THE INTERIOR

National Park Service

Notice of Inventory Completion: U.S. Department of Agriculture, Forest Service, Cibola National Forest, Albuquerque, NM

AGENCY: National Park Service, Interior.

ACTION: Notice.

Notice is here given in accordance with the Native American Graves Protection and Repatriation Act (NAGPRA), 25 U.S.C. 3003, of the completion of an inventory of human remains and associated funerary objects in the possession and control of the U.S. Department of Agriculture, Forest Service, Cibola National Forest, Albuquerque, NM. The human remains and associated funerary objects were removed from Socorro County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Cibola National Forest professional staff in consultation with the Pueblo of Ysleta del Sur of Texas.

In 1987, human remains representing a minimum of one individual were removed from AR 03-03-03-334 in Socorro County, NM, by Forest Service personnel following the report of the presence of a human skull on the surface of the site from the Socorro County Sheriff's Department. The human remains have been curated in a secure storage facility at the Forest Supervisor's Office of the Cibola National Forest and were discovered during a recent review by Forest Service personnel of the contents of boxes in that facility. No known individual was identified. The 15 associated funerary objects are pottery sherds, charcoal and chipped stone.

Archeological evidence of both material culture and settlement patterns indicate that site AR 03-03-03-334 is a small pre-historic Puebloan habitation site that was occupied intermittently between A.D. 900 to A.D. 1250/1300 (Pueblo II/Pueblo III). The site is ancestral to the nearby large, late prehistoric Puebloan site at Gallinas Springs (occupied from the 14th to 16th century). The Gallinas Springs site was a part of the Piro Province in early contact era New Mexico (16th century). Archeological and historical evidence link the inhabitants of the Piro Province to the present-day inhabitants of the Pueblo of Ysleta del Sur of Texas. Based on material culture, site organization and architecture, site AR 03-03-03-334 has been identified as a small, prehistoric Puebloan habitation site that was occupied between A.D. 900 and A.D. 1250/1300, in the Piro Province of central New Mexico. The present-day descendants of the Piro Province populations are the Pueblo of Ysleta del Sur of Texas. Oral traditions provided by representatives of the Pueblo of Ysleta del Sur of Texas support cultural affiliation.

Officials of the Cibola National Forest have determined that, pursuant to 25 U.S.C. 3001 (9-10), the human remains described above represent the physical remains of one individual of Native American ancestry. Officials of the Cibola National Forest also have determined that, pursuant to 25 U.S.C. 3001 (3)(A), the 15 objects described above are reasonably believed to have been placed with or near individual human remains at the time of death or later as part of the death rite or ceremony. Lastly, officials of the Cibola National Forest have determined that, pursuant to 25 U.S.C. 3001 (2), there is a relationship of shared group identity that can be reasonably traced between the Native American human remains and associated funerary objects and the Pueblo of Ysleta del Sur of Texas.

Representatives of any other Indian tribe that believes itself to be culturally affiliated with the human remains and/or associated funerary objects should contact Dr. Frank E. Wozniak, NAGPRA Coordinator, Southwestern Region, USDA Forest Service, 333 Broadway Boulevard SE, Albuquerque, NM 87102, telephone (505) 842-3238, before May 19, 2008. Repatriation of the human remains and associated funerary objects to the Pueblo of Ysleta del Sur of Texas may proceed after that date if no additional claimants come forward.

Cibola National Forest is responsible for notifying the Pueblo of Ysleta del Sur of Texas that this notice has been published.

Dated: March 18, 2008.
Sherry Hutt,
Manager, National NAGPRA Program.

[FR Doc. E8-8307 Filed 4-17-08; 8:45 am]

BILLING CODE 4312-50-S